DEPARTMENT OF TRANSPORTATION

Federal Aviation Administration

RTCA Government/Industry Certification Steering Committee

AGENCY: Federal Aviation Administration (FAA), DOT.

ACTION: Notice of RTCA Government/Industry Certification Steering Committee meeting.

SUMMARY: The FAA is issuing this notice to advise the pubic of a meeting of the RTCA Government/Industry Certification Steering Committee.

DATES: The meeting will be held August 31, 2001, from 8 am-12 pm.

ADDRESSES: The meeting will be held at FAA Headquarters, 800 Independence Avenue, SW, Bessie Coleman Conference Center, Room 2 AB, Washington, DC, 20591.

FOR FURTHER INFORMATION CONTACT: RTCA Secretariat, 1828 L Street, NW., Suite 805, Washington, DC, 20036; telephone (202) 833-9339; fax (202) 833-9434; web site http://www.rtca.org.

SUPPLEMENTARY INFORMATION: Pursuant to section 10(a)(2) of the Federal Advisory Committee Act (Pub. L. 92-463, 5 U.S.C., Appendix 2), notice is hereby given for a Certification Steering Committee meeting. The agenda will include:

August 31

• Opening Session (Welcome and Introductory Remarks)

• Certification Select Committee Report

• Final Reports on Implementation of Task Force 4 Recommendations

• Closing Session (Other Business, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on August 1, 2001.
Janice L. Peters,
FAA Special Assistant, RTCA Advisory Committee.

[FR Doc. 01-19737 Filed 8-6-01; 8:45 am]

BILLING CODE 4910-13-M